DEPARTMENT OF THE TREASURY

Internal Revenue Service

26 CFR Part 1

[REG-209114-90]

RIN 1545-AH49

Golden Parachute Payments; Hearing Cancellation

AGENCY: Internal Revenue Service (IRS), Treasury.

ACTION: Cancellation of notice of public hearing on proposed rulemaking.

SUMMARY: This document cancels the public hearing on proposed regulations that relates to golden parachute payments to provide guidance to taxpayers who must comply with section 280G.

DATES: The public hearing originally scheduled for Wednesday, June 26, 2002, at 10 a.m., is cancelled.

FOR FURTHER INFORMATION CONTACT: LaNita Van Dyke of the Regulations Unit, Associate Chief Counsel (Income Tax and Accounting), (202) 622-7190 (not a toll-free number).

SUPPLEMENTARY INFORMATION: A notice of proposed rulemaking and notice of public hearing that appeared in the Federal Register on Wednesday, February 20, 2001 (67 FR 7630), announced that a public hearing was scheduled for Wednesday, June 26, 2002, at 10 a.m., in the IRS Auditorium, Internal Revenue Building, 1111 Constitution Avenue, NW., Washington, DC. The subject of the public hearing is proposed regulations under section 280G of the Internal Revenue Code. The public comment period for these proposed regulations expired on Wednesday, June 5, 2002.

The notice of proposed rulemaking and notice of public hearing, instructed those interested in testifying at the public hearing to submit a request to speak and an outline of the topics to be addressed. As of Tuesday, June 11, 2002, no one has requested to speak. Therefore, the public hearing scheduled for Wednesday, June 25, 2002, is cancelled.

Cynthia E. Grigsby,
Chief, Regulations Unit, Associate Chief Counsel, (Income Tax and Accounting).

[FR Doc. 02-15108 Filed 6-13-02; 8:45 am]

BILLING CODE 4830-01-P